DEPARTMENT OF ENERGY

Federal Energy Regulatory Commission

Combined Notice of Filings #1

Take notice that the Commission received the following electric corporate filings:

Docket Numbers: EC23-33-000.

Applicants: Huck Finn Solar, LLC, HFREC Holding Company, LLC, Union Electric Company d/b/a Ameren Missouri.

Description: Joint Application for Authorization Under Section 203 of the Federal Power Act of Huck Finn Solar, LLC.

Filed Date: 11/29/22.

Accession Number: 20221129-5111.

Comment Date: 5 p.m. ET 1/30/23.

Take notice that the Commission received the following electric rate filings:

Docket Numbers: ER16-1053-001; ER21-2573-001.

Applicants: HollyFrontier Puget Sound Refining LLC, HollyFrontier El Dorado Refining LLC.

Description: Notice of Change in Status of HollyFrontier El Dorado Refining LLC, et al.

Filed Date: 11/28/22.

Accession Number: 20221128-5157.

Comment Date: 5 p.m. ET 12/19/22.

Docket Numbers: ER19-1553-000.

Applicants: Southern California Edison Company.

Description: Southern California Edison Company submits Formula Transmission Rate Annual Update Filing (TO2023).

Filed Date: 11/18/22.

Accession Number: 20221118-5107.

Comment Date: 5 p.m. ET 12/9/22.

Docket Numbers: ER22-2624-001.

Applicants: Middletown Coke Company, LLC.

Description: Tariff Amendment: Amendment to 189 to be effective 11/3/2022.

Filed Date: 11/3/22.

Accession Number: 20221103-5126.

Comment Date: 5 p.m. ET 12/13/22.

Docket Numbers: ER23-500-000.

Applicants: Capital Energy PA LLC.

Description: Notice of Cancellation of Market Based Rate Tariff of Capital Energy PA LLC.

Filed Date: 11/28/22.

Accession Number: 20221128-5156.

Comment Date: 5 p.m. ET 12/19/22.

Docket Numbers: ER23-501-000.

Applicants: Midcontinent Independent System Operator, Inc., Ameren Services Company.

Description: § 205(d) Rate Filing: Midcontinent Independent System Operator, Inc. submits tariff filing per 35.13(a)(2)(iii): 2022-11-29_SA 3932 Union Electric-Hannibal-MJMEUC WCA to be effective 12/15/2022.

Filed Date: 11/29/22.

Accession Number: 20221129-5027.

Comment Date: 5 p.m. ET 12/20/22.

Docket Numbers: ER23-502-000.

Applicants: HollyFrontier Puget Sound Refining LLC.

Description: § 205(d) Rate Filing: Notice of Succession filing to be effective 11/30/2022.

Filed Date: 11/29/22.

Accession Number: 20221129-5085.

Comment Date: 5 p.m. ET 12/20/22.

Docket Numbers: ER23-503-000.

Applicants: HollyFrontier El Dorado Refining LLC.

Description: § 205(d) Rate Filing: Notice of Succession filing to be effective 11/30/2022.

Filed Date: 11/29/22.

Accession Number: 20221129-5088.

Comment Date: 5 p.m. ET 12/20/22.

Docket Numbers: ER23-504-000.

Applicants: Tri-State Generation and Transmission Association, Inc.

Description: § 205(d) Rate Filing: Amendment to Rate Schedule FERC No. 249 to be effective 12/31/2022.

Filed Date: 11/29/22.

Accession Number: 20221129-5124.

Comment Date: 5 p.m. ET 12/20/22.

Docket Numbers: ER23-505-000.

Applicants: AEP Texas Inc.

Description: § 205(d) Rate Filing: AEPTX-Monte Alto Windpower 6th A&R GIA to be effective 11/14/2022.

Filed Date: 11/29/22.

Accession Number: 20221129-5125.

Comment Date: 5 p.m. ET 12/20/22.

Docket Numbers: ER23-506-000.

Applicants: AEP Oklahoma Transmission Company, Inc.

Description: § 205(d) Rate Filing: AEPOTC-Seven Cowboy Wind Maintenance Agreement to be effective 11/7/2022.

Filed Date: 11/29/22.

Accession Number: 20221129-5129.

Comment Date: 5 p.m. ET 12/20/22.

Docket Numbers: ER23-507-000.

Applicants: Tri-State Generation and Transmission Association, Inc.

Description: § 205(d) Rate Filing: Amendment to Rate Schedule FERC No. 16 to be effective 1/30/2023.

Filed Date: 11/29/22.

Accession Number: 20221129-5143.

Comment Date: 5 p.m. ET 12/20/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 29, 2022.
Kimberly D. Bose,
Secretary.

[FR Doc. 2022-26384 Filed 12-2-22; 8:45 am]

BILLING CODE 6717-01-P